DEPARTMENT OF DEFENSE

GENERAL SERVICES ADMINISTRATION

NATIONAL AERONAUTICS AND SPACE ADMINISTRATION

48 CFR Chapter 1

[Docket No. FAR-2024-0051, Sequence No. 7]

Federal Acquisition Regulation; Federal Acquisition Circular 2025-02; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2025-02, which amends the Federal Acquisition Regulation (FAR). Interested parties may obtain further information regarding these rules by referring to FAC 2025-02, which precedes this document.

DATES: December 16, 2024.

ADDRESSES: The FAC, including the SECG, is available at https://www.regulations.gov.

FOR FURTHER INFORMATION CONTACT: For clarification of content, contact the analyst whose name appears in the table below. Please cite FAC 2025-02 and the FAR Case number. For information pertaining to status or publication schedules, contact the Regulatory Secretariat Division at 202-501-4755 or GSARegSec@gsa.gov. An asterisk (*) next to a rule indicates that a regulatory flexibility analysis has been prepared.

Rules Listed in FAC 2025-02
Item | Subject | FAR case | Analyst
* I | Training to Prevent Human Trafficking For Certain Air Carriers | 2019-017 | Jones.
* II | Certification of Service-Disabled Veteran-Owned Small Businesses | 2022-009 | Moore.
III | Technical Amendments

SUPPLEMENTARY INFORMATION: Summaries for each FAR rule follow. For the actual revisions and/or amendments made by these FAR rules, refer to the specific item numbers and subjects set forth in the documents following these item summaries. FAC 2025-02 amends the FAR as follows:

Item I—Training To Prevent Human Trafficking For Certain Air Carriers (FAR Case 2019-017)

This final rule amends the FAR to implement section 111 of the Frederick Douglass Trafficking Victims Prevention and Protection Reauthorization Act of 2018 (Pub. L. 115-425), enacted January 8, 2019. Section 111 requires that domestic carriers who contract with the Federal Government to provide air transportation submit an annual report with certain information related to prevention of human trafficking to the Administrator of General Services, the Secretary of Transportation, the Secretary of Labor, the Administrator of the Transportation Security Administration, and the Commissioner of U.S. Customs and Border Protection. Section 111 does not apply to contracts awarded by the Department of Defense.

This rule creates a new contract clause at FAR 52.247-69, Reporting Requirement for U.S.-Flag Air Carriers Regarding Training to Prevent Human Trafficking, to implement the statutory reporting requirement. Contracting officers will include this clause in solicitations and contracts for the transportation by air of passengers. The reporting requirement applies to U.S.-flag air carriers, including small business air carriers. The final rule is not expected to have a significant economic impact on a substantial number of small entities within the meaning of the Regulatory Flexibility Act.

Item II—Certification of Service-Disabled Veteran-Owned Small Businesses (FAR Case 2022-009)

This FAR rule adopts, without change, an interim rule that amended the FAR to implement the Governmentwide certification requirement for service-disabled veteran-owned small business (SDVOSB) concerns seeking sole-source and set-aside awards under the SDVOSB Program. Effective January 1, 2024, an SDVOSB concern must have either been certified by the Small Business Administration (SBA), or have both submitted an application for certification to SBA on or before December 31, 2023, and represented that it is an SDVOSB in the System for Award Management (SAM), in order to be eligible for sole-source or set-aside awards under the SDVOSB Program. This rule required that an SDVOSB concern update its status in SAM no later than two days after the date of a final determination that the concern does not meet the requirements of the status the concern claims to hold. This rule also provided new SDVOSB protest and appeal procedures.

Item III—Technical Amendments

Administrative changes are made at FAR 13.302-5, 25.101, 36.603, 49.601-2, 52.204-2, 52.204-7, 52.204-8, 52.204-19, 52.212-5, 52.225-3, 52.225-4, and 52.225-18.

William F. Clark,
Director, Office of Government-wide Acquisition Policy, Office of Acquisition Policy, Office of Government-wide Policy.

[FR Doc. 2024-29376 Filed 12-13-24; 8:45 am]

BILLING CODE 6820-EP-P